DEPARTMENT OF EDUCATION

National Advisory Committee on Institutional Quality and Integrity (National Advisory Committee)

ACTION: Notice of meeting changes.

SUMMARY: This notice advises interested parties of changes concerning the upcoming public meeting of the National Advisory Committee and amends information provided in the original meeting notice published in the April 2, 2001 Federal Register (66 FR 17538).

FOR FURTHER INFORMATION CONTACT: Bonnie LeBold, Executive Director, National Advisory Committee on Institutional Quality and Integrity, U.S. Department of Education, Room 7007—MS 7592, 1990 K St. NW., Washington, DC 20006. Telephone: (202) 219-7009, fax: (202) 219-7008, or e-mail: bonnie.lebold@ed.gov. Individuals who use a telecommunications device for the deaf (TDD) may call the Federal Information Relay Service at 1-800-877-8339 between 8 a.m. and 8 p.m., Eastern time, Monday through Friday.

SUPPLEMENTARY INFORMATION: The changes to the agenda are as follows:

(1) The National Advisory Committee will not meet on Friday, May 25, 2001, as originally indicated in the April 2, 2001 Federal Register (66 FR 17538). The meeting of National Advisory Committee will take place on two days only, on Wednesday, May 23, from 9:30 a.m. until 6 p.m., and on Thursday, May 24, from 8:30 a.m. until approximately 4 p.m. The meeting will be held at the Ritz Carlton Hotel at Pentagon City, 1250 South Hayes Street, Arlington, Virginia 22202, phone: (703) 415-5000.

(2) The agency listed below, which was originally scheduled for review during the National Advisory Committee's May 2001 meeting, will be postponed for review until a future meeting.

• Teacher Education Accreditation Council (Requested scope of recognition: the accreditation of professional education programs in institutions offering baccalaureate and graduate degrees for the preparation of teachers and other professional personnel for elementary and secondary schools)

Any third-party written comments regarding this agency that were received by March 5, 2001, in accordance with the Federal Register notice published on January 18, 2001, will become part of the official record. Those comments will be considered by the National Advisory Committee when it reviews the agency's petition for initial recognition at a future meeting. Another opportunity to provide written comments on the agency prior to that meeting will be announced in a Federal Register notice requesting written comments.

Authority: 5 U.S.C. Appendix 2.

Dated: April 20, 2001.
Maureen A. McLaughlin,
Deputy Assistant Secretary for Policy, Planning, and Innovation, Office of Postsecondary Education.

[FR Doc. 01-10300 Filed 4-25-01; 8:45 am]

BILLING CODE 4000-01-P